DEPARTMENT OF AGRICULTURE

Submission for OMB Review; Comment Request

October 13, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Perceived and Realized Health Benefits on Public Lands.

OMB Control Number: 0596-NEW.

Summary of Collection: In June 2002, President Bush issued Executive Order 13266 for the purpose of improving the health of all Americans. Physical activity was one of the four health-protection pillars and part of this E.O. encouraged Federal agencies to promote physical activity on public lands. Little is known about the use of outdoor recreation lands for health activities. Data will be collected from users of urban proximate public lands, who come from a variety of ethnic/racial, income, age, educational, and other socio-demographic backgrounds. The activities pursued, health benefits realized, information sources utilized, and site attributes preferred are just some of the items affected by these differences. The statute authorizing the collection of information is the Forest and Rangeland Renewable Resources Research Act of 1978 (Pub. L. 95-307, 92 Stat. 353).

Need and Use of the Information: Data will be collected using on-site surveys from visitors to urban parks and more distant watershed sites in or within an hour's drive of Los Angeles, California; Minneapolis-St. Paul, Minnesota; and Chicago, Illinois. Participants will answer questions on the following topics: Area visitation history and patterns; activity patterns; site amenities/characteristics; constraints to more frequent visitation, physical health; and demographics. The collected information will enable Forest Service personnel to more effectively manage recreation areas for the encouragement and promotion of potential physical health benefits. If this information is not collected resource managers will have to make visitor based decisions on limited information.

Description of Respondents: Individuals or households.

Number of Respondents: 3,600.

Frequency of Responses: Reporting: On occasion.

Total Burden Hours: 576.

Ruth Brown,
Departmental Information Collection Clearance Officer.

[FR Doc. 05-20907 Filed 10-18-05; 8:45 am]

BILLING CODE 3410-11-P